INTERNATIONAL TRADE COMMISSION

[Investigation Nos. 701-TA-602 and 731-TA-1412 (Review)]

Steel Wheels From China; Determinations

On the basis of the record ¹ developed in the subject five-year reviews, the United States International Trade Commission (“Commission”) determines, pursuant to the Tariff Act of 1930 (“the Act”), that revocation of the countervailing and antidumping duty orders on steel wheels from China would be likely to lead to continuation or recurrence of material injury to an industry in the United States within a reasonably foreseeable time.

¹ The record is defined in § 207.2(f) of the Commission's Rules of Practice and Procedure (19 CFR 207.2(f)).

Background

The Commission instituted these reviews on April 1, 2024 (89 FR 22451), and determined on July 5, 2024, that it would conduct expedited reviews (89 FR 67102, August 19, 2024).

The Commission made these determinations pursuant to section 751(c) of the Act (19 U.S.C. 1675(c)). It completed and filed its determinations in these reviews on October 31, 2024. The views of the Commission are contained in USITC Publication 5557 (October 2024), entitled Steel Wheels from China: Investigation Nos. 701-TA-602 and 731-TA-1412 (Review).

By order of the Commission.
Issued: October 31, 2024.
Lisa Barton,
Secretary to the Commission.

[FR Doc. 2024-25749 Filed 11-5-24; 8:45 am]

BILLING CODE 7020-02-P